DEPARTMENT OF AGRICULTURE

Food and Nutrition Service

Request for Comments on Whether the Food Stamp Program Should Be Renamed

AGENCY: Food and Nutrition Service, USDA.

ACTION: Notice.

SUMMARY: This notice invites the general public to comment on whether the Food Stamp Program (FSP) should be renamed to more accurately describe its current method of operation and goal of providing nutritional assistance and promoting health among low-income families. The Department and many stakeholders involved with the FSP believe that the Program's name is outdated because “food stamps” have not been used for issuing benefits since the early 1940s. Today, all benefits are issued electronically through an Electronic Benefit Transfer (EBT) system. Additionally, many States that administer the Federally-funded Program have asked the Department to rename the Program in consideration of its purpose and in recognition of the benefit issuance system. Although outdated, the Program's name is widely known and changing it may create confusion. Recognizing these different perspectives, the Department intends to proceed with care before making a decision on a name change by requesting public comment.

DATES: Written comments must be received on or before August 23, 2004.

ADDRESSES: Comments may be sent to John Knaus, Chief, Program Design Branch, Program Development Division, Food and Nutrition Service, U.S. Department of Agriculture, 3101 Park Center Drive, Alexandria, VA 22302. Comments may also be faxed to (703) 305-2486 or e-mailed to john.knaus@fns.usda.gov. All written comments will be open for public inspection at the offices of the Food and Nutrition Service during regular business hours (8:30 a.m. to 5 p.m. eastern time, Monday through Friday) at 3101 Park Center Drive, Alexandria, Virginia, 22302, Room 810.

FOR FURTHER INFORMATION CONTACT: Questions regarding this notice may be directed to John Knaus at (703) 305-2098.

SUPPLEMENTARY INFORMATION:

Use of Public Comments

Your comments, in their entirety or summarized, may be posted on our Web site. If you wish to request that we withhold your name, street address, or other contact information from public review or from Web posting, you must state this prominently at the beginning of your comment. We will honor requests for confidentiality on a case-by-case basis to the extent allowed by law.

Discussion

The Department and many stakeholders involved with the FSP believe that the Program's name is outdated and reflects neither the current benefit delivery technology nor the mission of the nation's primary and largest nutrition assistance program. One of the common themes heard during nationwide “listening sessions” conducted by the Department in preparation for the Program's Fiscal Year (FY) 2003 reauthorization was that the FSP should be renamed to reflect its operation and purpose. Although the FSP continues to serve as the cornerstone of the national nutrition safety net to reduce hunger and improve nutrition and health among low-income people, the use of actual “stamps” to issue benefits ended decades ago. The FSP currently reaches over 23 million Americans each month. Unlike most other assistance programs, the FSP is available to most low-income households with few resources wherever they live regardless of age, disability status or family structure. In FY 2002, over two thirds of all FSP participants were either children, elderly or disabled individuals. Even so, more food stamp households relied on work (28 percent) to make ends meet than on cash welfare (21 percent). Nearly 30 percent of households received Supplemental Security Income and almost one quarter (24 percent) received Social Security benefits.

Over the years, the FSP has demonstrated its responsiveness to economic changes, expanding to meet increased need when the economy slows and contracting when the economy grows, making sure that food gets to people when they need it most. Because benefits automatically flow into communities, the economic gain is not only to low-income families, but also to the community at large. Every $5 in Federal food stamps issued generates an average of $9.20 in local and State economic activity.

The FSP delivers billions of dollars in benefits with a high degree of accuracy and accountability. Since 1974, FNS has used a statistical sampling system called the Quality Control system to annually measure payment accuracy or the amount of overpayments (too many benefits issued) and underpayments (too few benefits issued). Based on FY 2002 data from this system, 98 percent of all participating households are entitled to receive benefits and almost 94 cents of every food stamp dollar was issued correctly.

In spite of the FSP's many recent accomplishments, its name remains linked to the original program that was operating in 1939 when benefits were issued to individuals on welfare in the form of orange and blue stamps. That program ended four years later when wartime conditions reduced the nation's widespread unemployment. From the time a pilot FSP was reinstated in 1961, and made permanent in 1964, food stamp benefits were issued to recipients in the form of paper coupons. Today, with advancements in modern technology, paper coupons have been replaced by electronic issuances through an EBT system.

In addition to the name being outdated in describing the method by which benefits are issued, the FSP is not widely recognized by recipients and the general public as a nutrition assistance program with a focus on fighting hunger and improving nutrition and health among low-income people. Some State program administrators and advocacy groups have expressed that this misunderstanding creates a barrier to participation and is a reason why nationwide only 3 of 5 persons eligible for the Program are participating. Concerned about the misperception, some State agencies have already renamed the FSP within their States. For example, in Washington State, the FSP is now called the “Washington Basic Food Program” or “Basic Food”. The Michigan Family Independence Agency and the Minnesota Department of Human Services have renamed the FSPs in those States the “Food Assistance Program” and the “Food Support Program,” respectively. Although these names are descriptive of the services provided, the Department believes that a national program should have a name that is recognized across States to promote a consistent message about the FSP's mission of providing nutritional assistance and promoting health.

The Department also believes that any name change should be descriptive while reflecting the purposes of the Program to: provide nutrition or food assistance; ensure availability to all who are eligible; and promote a healthy diet. To this point, it appears that most people support changing the Program's current name. However, it has been difficult to reach a consensus on a specific alternative. Some suggestions for a new Program name that we have heard include the “National Food Assistance Program” (NFAP), the “Food Security Program” (FSP), the “Nutrition Support Program” (NSP), the “Food Support Program” (FSP), and the “Food and Nutrition Program” (FNP). While a new name for the Program is not limited to these suggestions, we encourage commenters to consider these names.

To help us in making a decision about the possible renaming of the FSP, the Department is requesting responses to the following questions.

(1) Should the FSP be renamed?

(2) If not, why not?

(3) If so, do you have a name you would propose or recommend?

(4) How does the name change reflect the purpose of the program?

Once we have compiled the results, the Department will post a summary of the responses on its Web site at http://www.fns.usda.gov/fns/. If the Department decides to proceed with a name change, we will work with the appropriate Congressional committees to pursue the required legislative changes. Any final decision on whether the FSP should be renamed and, if so, what its new name should be, rests with the Congress.

Dated: June 7, 2004.
Eric M. Bost,
Under Secretary, Food, Nutrition and Consumer Services.

[FR Doc. 04-13761 Filed 6-21-04; 8:45 am]

BILLING CODE 3410-30-P